DEPARTMENT OF THE INTERIOR

Fish and Wildlife Service

[FWS-R4-ES-2014-N047; 40120-1112-0000-F2]

Receipt of Applications for Endangered Species Permits

AGENCY: Fish and Wildlife Service, Interior.

ACTION: Notice.

SUMMARY: We, the U.S. Fish and Wildlife Service, invite the public to comment on the following applications to conduct certain activities with endangered species. With some exceptions, the Endangered Species Act (ESA) prohibits activities with listed species unless a Federal permit is issued that allows such activities. The ESA requires that we invite public comment before issuing these permits.

DATES: We must receive written data or comments on the applications at the address given below by April 15, 2015.

ADDRESSES: Documents and other information submitted with the applications are available for review, subject to the requirements of the Privacy Act and Freedom of Information Act, by any party who submits a written request for a copy of such documents to the following office within 30 days of the date of publication of this notice: U.S. Fish and Wildlife Service, 1875 Century Boulevard, Suite 200, Atlanta, GA 30345 (Attn: Karen Marlowe, Permit Coordinator).

FOR FURTHER INFORMATION CONTACT: Karen Marlowe, 10(a)(1)(A) Permit Coordinator, telephone 205-726-2667; facsimile 205-726-2479.

SUPPLEMENTARY INFORMATION: The public is invited to comment on the following applications for permits to conduct certain activities with endangered and threatened species under section 10(a)(1)(A) of the Endangered Species Act of 1973, as amended (16 U.S.C. 1531 et seq.), and our regulations in the Code of Federal Regulations (CFR) at 50 CFR 17. This notice is provided under section 10(c) of the Act.

If you wish to comment, you may submit comments by any one of the following methods. You may mail comments to the Fish and Wildlife Service's Regional Office (see ADDRESSES section) or send them via electronic mail (email) to permitsR4ES@fws.gov. Please include your name and return address in your email message. If you do not receive a confirmation from the Fish and Wildlife Service that we have received your email message, contact us directly at the telephone number listed above (see FOR FURTHER INFORMATION CONTACT). Finally, you may hand-deliver comments to the Fish and Wildlife Service office listed above (see ADDRESSES).

Before including your address, telephone number, email address, or other personal identifying information in your comments, you should be aware that your entire comment—including your personal identifying information—may be made publicly available at any time. While you can ask us in your comments to withhold your personal identifying information from public review, we cannot guarantee that we will be able to do so.

Permit Applications

Permit Application Number: TE 041314-5

Applicant: Kenneth Moore, U.S. Army, Fort Polk, Louisiana

The applicant requests renewal of his current permit to take (capture, band, release, install artificial cavities and restrictors for, monitor nest cavities for, and translocate) red-cockaded woodpeckers (Picoides borealis) on Fort Polk military base, with translocations allowed to Arkansas, Oklahoma, Texas, and Louisiana, for the enhancement of propagation and survival of the species.

Permit Application Number: TE 087191-3

Applicant: Kerry Brust, Sandhills Ecological Institute, Southern Pines, North Carolina

The applicant requests renewal of her current permit to take (capture, band, release, install artificial cavities and restrictors for, and monitor nest cavities for) red-cockaded woodpeckers (Picoides borealis) in the North Carolina Sandhills—Moore, Hoke, Cumberland, Richmond, and Scotland Counties, North Carolina, and Dorchester County, South Carolina—for the enhancement of propagation and survival of the species.

Permit Application Number: TE 56746B-0

Applicant: Joseph Johnson, Bucknell University, Lewisburg, Pennsylvania

The applicant requests authorization to take (capture with mist nets, handle, weigh, measure, radio-tag, band, and release) Indiana bats (Myotis sodalis), gray bats (Myotis grisescens), and northern long-eared bats (Myotis septentrionalis) in the Shoal Creek Ranger District of the Talladega National Forest in Cleburne and Calhoun Counties, Alabama, to determine presence/absence and examine the impacts of fire management and forest thinning on the species.

Permit Application Number: TE 56749B-0

Applicant: Patrick Moore, Little Rock, Arkansas

The applicant requests authorization to take (enter hibernacula, salvage dead bats, capture with mist nets or harp traps, handle, identify, collect hair samples, band, radio-tag, light-tag, wing-punch, and selectively euthanize for white-nose syndrome) Indiana bats (Myotis sodalis), gray bats (Myotis grisescens), Ozark big-eared bats (Corynorhinus townsendii ingens), and northern long-eared bats (Myotis septentrionalis) for the purposes of conducting presence/absence surveys, studies to document habitat use, and population monitoring throughout the following States: Alabama, Arkansas, Florida, Georgia, Illinois, Indiana, Iowa, Kentucky, Louisiana, Mississippi, Missouri, New York, North Carolina, Ohio, Oklahoma, Pennsylvania, South Carolina, Tennessee, Texas, Virginia, and West Virginia.

Permit Application Number: TE 822525-6

Applicant: Joe McGlincy. Southern Forestry Consultants, Bainbridge, Georgia

The applicant requests renewal of his current permit to take (capture, monitor, band, release, install artificial cavities for, and translocate) red-cockaded woodpeckers (Picoides borealis) throughout the species' range for the enhancement of propagation and survival of the species.

Permit Application Number: TE 22311A-1

Applicant: Anna George, Tennessee Aquarium, Chattanooga, Tennessee

The applicant requests renewal of her current permit to take (capture, identify, take fin clips from, and release) up to 30 individuals of each of the fish species amber darter (Percina antesella), goldline darter (Percina aurolineata), snail darter (Percina tanasi), Conasauga logperch (Percina jenkinsi), blue shiner (Cyprinella caerulea), and Laurel dace (Chrosomus saylori), in Alabama, Georgia, Kentucky, North Carolina, Tennessee, and Virginia, for the purposes of conducting presence/absence surveys and genetic analyses.

Permit Application Number: TE 38522A-1

Applicant: Michael Lacki, University of Kentucky, Georgetown, Kentucky

The applicant requests renewal and amendment of his current permit to take (enter hibernacula or maternity roost caves of, salvage dead bats, capture with mist nets or harp traps, handle, identify, collect hair samples, band, radio-tag, light-tag, wing-punch, and selectively euthanize for white-nose syndrome) Indiana bats (Myotis sodalis), gray bats (Myotis grisescens), and northern long-eared bats (Myotis septentrionalis) for the purposes of conducting presence/absence surveys, studies to document habitat use, and population monitoring in Kentucky.

Permit Application Number: TE 207117-1

Applicant: Samuel Gaines, The South Carolina Department of Parks, Recreation & Tourism, Columbia, South Carolina

The applicant requests renewal of his current permit to take (inspect nest cavities of) red-cockaded woodpeckers (Picoides borealis) for the purpose of monitoring populations in Cheraw State Park and Hampton Plantation State Historic Site in Chesterfield and Charleston Counties, South Carolina.

Permit Application Number: TE 075913-5

Applicant: Thomas Risch, Arkansas State University, Jonesboro, Arkansas

The applicant requests an amendment of his current permit to add take (salvage of dead bats, capture with mist nets or harp traps, handling, identification, collection of hair samples, banding, radio-tagging, light-tagging wing-punching, and selectively euthanizing for white-nose syndrome) of northern long-eared bats (Myotis septentrionalis) and to add the following States for purposes of conducting presence/absence surveys, studies to document habitat use, and population monitoring: Alabama, Florida, Georgia, Illinois, Iowa, Kentucky, Louisiana, Mississippi, Missouri, New York, North Carolina, Ohio, Oklahoma, Pennsylvania, South Carolina, Tennessee, Texas, Virginia, and West Virginia.

Permit Application Number: TE 58576B-0

Applicant: Randall Davis, Texas A&M University, Galveston, Texas

The applicant requests authorization to take (capture, attach video and data recorder to, release, and recapture) 15 to 20 adult female leatherback sea turtles (Dermochelys coriacea) for the purpose of revealing new information on foraging ecology in Sandy Point National Wildlife Refuge, Frederiksted, St. Croix, US Virgin Islands.

Permit Application Number: TE 35313B-2

Applicant: Emma Willcox, University of Tennessee, Knoxville, Tennessee

The applicant requests an amendment to include additional States on her current permit to take (capture, handle, band, radio-tag, pit tag, collect hair and fecal samples of, wing punch, swab, undertake longwave ultraviolet fluorescence screening, and release) Indiana bats (Myotis sodalis), gray bats (Myotis grisescens) and northern long-eared bats (Myotis septentrionalis) for the purposes of conducting presence/absence surveys, studies to document habitat use, population monitoring, and white-nose syndrome surveillance. The applicant requests the addition of the following States: Alabama, Arkansas, Georgia, Illinois, Indiana, Kansas, Louisiana, Mississippi, Missouri, Oklahoma, South Carolina, Virginia, and West Virginia.

Dated: March 9, 2015.
Leopoldo Miranda,
Assistant Regional Director- Ecological Services, Southeast Region.

[FR Doc. 2015-05896 Filed 3-13-15; 8:45 am]

BILLING CODE 4310-55-P